ENVIRONMENTAL PROTECTION AGENCY

[EPA-HQ-OAR-2003-0033; FRL 9941-75-OEI]

Information Collection Request Submitted to OMB for Review and Approval; Comment Request; EPA's ENERGY STAR® Product Labeling (Renewal)

AGENCY: Environmental Protection Agency (EPA).

ACTION: Notice.

SUMMARY: The Environmental Protection Agency has submitted an information collection request (ICR), “EPA's ENERGY STAR Product Labeling” (EPA ICR No. 2078.06, OMB Control No. 2060-0528) to the Office of Management and Budget (OMB) for review and approval in accordance with the Paperwork Reduction Act (44 U.S.C. 3501 et seq.). This is a proposed revision of the ICR, which is currently approved through February 29, 2016. Public comments were previously requested via the Federal Register (80 FR 65752) on October 27, 2015, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 18, 2016.

ADDRESSES: Submit your comments, referencing Docket ID Number EPA-HQ-OAR-2003-0033, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kirsten Hesla, Climate Protection Partnerships Division, Office of Air and Radiation, Mailcode 6202J, Environmental Protection Agency, 1200 Pennsylvania Ave. NW., Washington, DC 20460; telephone number: 202-564-2984; fax number: 202-343-2200; email address: hesla.kirsten@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: ENERGY STAR is a voluntary program developed in collaboration with industry to create a self-sustaining market for energy efficient products. The center piece of the program is the ENERGY STAR label, a registered certification label that helps consumers identify products that save energy, save money, and help protect the environment without sacrificing quality or performance. In order to protect the integrity of the label and enhance its effectiveness in the marketplace, EPA must ensure that products carrying the label meet appropriate program requirements.

Program participants submit signed Partnership Agreements indicating that they will adhere to logo-use guidelines and program requirements. Retail partners commit to selling, marketing and promoting ENERGY STAR certified products. Product brand owner partners, who are usually the manufacturer of the products, commit to having participating products certified to meet specified energy performance criteria based on a standard test method and EPA's third party certification requirements. These requirements for ENERGY STAR product certification also include provisions for verifying the performance of certified products through verification testing.

Now, product information is recorded by Certification Bodies and shared with EPA using XML-based web services that validate and save the information in EPA's database. With this new process of obtaining certified product data, certified model data is automatically updated daily on the ENERGY STAR Web site. To ensure continued product performance after initial certification, EPA requires Certification Bodies to conduct post-market verification testing of a sampling of ENERGY STAR certified products. Certification Bodies are required to share information with EPA on products subjected to this post-market testing twice a year and to immediately report any certified products that no longer meet the program requirements. This process allows EPA to monitor the ongoing performance of products and take necessary steps to maintain consumer confidence in the ENERGY STAR label and protect the investment of partners.

Form Numbers: 5900-252, 5900-251, 5900-33, 5900-253, 5900-168, 5900-206, 5900-207, 5900-28, 5900-208, 5900-210, 5900-228, 5900-234, 5900-229, 5900-235, 5900-47, 5900-349, 5900-350, 5900-351, 5900-348, 5900-35, 5900-36, 5900-37, 5900-38, 5900-39, 5900-41, 5900-42, 5900-43, 5900-44, 5900-48, 5900-49, 5900-50, 5900-51, 5900-53, 5900-54, 5900-55, 5900-56, 5900-57, 5900-58, 5900-230, 5900-224, 5900-227, 5900-166, 5900-165, 5900-164, 5900-226, 5900-163, 5900-34, 5900-216, 5900-217, 5900-218, 5900-388.

Respondents/affected entities: Respondents for this information collection request include Partners in ENERGY STAR.

Respondent's obligation to respond: Voluntary.

Estimated number of respondents: 2,080.

Frequency of response: Initially/one-time and annually.

Total estimated burden: 41,209 hours (per year). Burden is defined at 5 CFR 1320.03(b).

Total estimated cost: $3,118,166 (per year), includes $17,285 annualized capital or operation & maintenance costs.

Changes in the Estimates: There is a decrease of 24,129 hours in the total estimated burden compared with the ICR currently approved by OMB. Although participation in the ENERGY STAR program has steadily increased, the automated process of sharing information between Certification Bodies and the Agency has reduced the overall burden for Partners.

Courtney Kerwin,
Acting Director, Collection Strategies Division.

[FR Doc. 2016-03155 Filed 2-16-16; 8:45 am]

BILLING CODE 6560-50-P